LIBRARY OF CONGRESS

Copyright Royalty Board

[Docket No. CONSOLIDATED 16-CRB-0010-SD (2014-17)]

Distribution of Satellite Royalty Funds

AGENCY: Copyright Royalty Board, Library of Congress.

ACTION: Notice requesting comments.

SUMMARY: The Copyright Royalty Judges solicit comments on a motion of Multigroup Claimants for partial distribution of 2015-2017 satellite royalty funds.

DATES: Comments are due on or before October 13, 2021.

ADDRESSES: Interested claimants must submit timely comments using eCRB, the Copyright Royalty Board's online electronic filing application, at https://app.crb.gov/.

Instructions: All submissions must include a reference to the CRB and docket number CONSOLIDATED 16-CRB-0010-SD (2014-17). All submissions will be posted without change to eCRB at https://app.crb.gov/ including any personal information provided.

Docket: For access to the docket to read submitted documents, go to eCRB, the Copyright Royalty Board's electronic filing and case management system, at https://app.crb.gov/ and search for docket number CONSOLIDATED 16-CRB-0010-SD (2014-17).

FOR FURTHER INFORMATION CONTACT: Anita Blaine, Program Specialist, 202-707-7658, crb@loc.gov.

SUPPLEMENTARY INFORMATION: Each year satellite systems must submit royalty payments to the Register of Copyrights as required by the statutory license set forth in section 119 of the Copyright Act for the retransmission to satellite subscribers of over-the-air television broadcast signals. See 17 U.S.C. 119(b). The Copyright Royalty Judges (Judges) oversee distribution of royalties to copyright owners whose works were included in a qualifying transmission and who timely filed a claim for royalties.

Allocation of the royalties collected occurs in one of two ways. In the first instance, the Judges may authorize distribution in accordance with a negotiated settlement among all claiming parties. 17 U.S.C. 119(b)(5)(A), 801(b)(3)(A). If all claimants do not reach an agreement with respect to the royalties, the Judges must conduct a proceeding to determine the distribution of any royalties that remain in controversy. 17 U.S.C. 119(b)(5)(B), 801(b)(3)(B). Alternatively, the Judges may, on motion of claimants and on notice to all interested parties, authorize a partial distribution of royalties, reserving on deposit sufficient funds to resolve identified disputes. 17 U.S.C. 119(b)(5)(C), 801(b)(3)(C).

On July 23, 2021, Worldwide Subsidy Group LLC dba Multigroup Claimants (MGC) filed with the Judges a motion requesting partial distributions of an amount confidentially calculated by the Licensing Division that equals 50% of the average satellite royalty awarded to MGC for 2010-2013, as applied against the 2015-2017 satellite royalties collected. Motion at 4.¹

¹ The Motion can be found at https://app.crb.gov/document/download/25503.

The Settling Devotional Claimants (SDC) opposed the Motion as well as a separate motion that MGC filed in the companion cable docket. See Settling Devotional Claimants' Opposition to Multigroup Claimants' Motion for Partial Distribution of 2015-2017 Cable and Satellite Royalty Funds (Opposition).² MGC filed a Reply in support of its Motion. See Multigroup Claimants' Reply in Support of Motion for Partial Distribution of 2015-2017 Satellite Royalties (Aug. 13, 2021).³

² The Opposition can be found at https://app.crb.gov/document/download/25572.

³ The Reply can be found at https://app.crb.gov/document/download/25603.

Prior to ruling on a motion for partial distribution filed under § 801(b)(3)(C) of the Copyright Act, the Judges must publish a notice in the Federal Register to determine whether any interested claimant entitled to receive such royalty fees has a reasonable objection to the partial distribution. Accordingly, this Notice seeks comments from interested claimants on whether any reasonable objection exists that would preclude the distribution to MGC of the requested amounts from the 2015-2017 satellite royalty funds. As the Judges have commenced a distribution proceeding concerning 2014-2017 satellite royalties, only claimants that have filed petitions to participate in the proceeding (or are included in a petition to participate filed on their behalf) are “interested claimants” for purposes of this Notice. Interested claimants objecting to the partial distribution must advise the Judges of the existence and extent of all objections by the end of the comment period. The Judges will not consider any objections with respect to the partial distribution motion that come to their attention after the close of the comment period.⁴

⁴ The Judges deem the SDC's Opposition and MGC's Reply to constitute timely comments and will consider them, together with any other comments they receive during the comment period, in determining whether any reasonable objection exists that would preclude the requested distribution to MGC.

Dated: September 8, 2021.
Jesse M. Feder,
Chief Copyright Royalty Judge.

[FR Doc. 2021-19702 Filed 9-10-21; 8:45 am]

BILLING CODE 1410-72-P